ENVIRONMENTAL PROTECTION AGENCY

40 CFR Part 180

[EPA-HQ-OPP-2008-0232; FRL-8382-2]

Aldicarb, Ametryn, 2,4-DB, Dicamba, Dimethipin, Disulfoton, Diuron, et al.; Tolerance Actions

AGENCY: Environmental Protection Agency (EPA).

ACTION: Final rule.

SUMMARY: EPA is revoking certain tolerances for the insecticides/nematicides aldicarb, ethoprop, and oxamyl; the insecticides disulfoton, malathion, and methyl parathion; the miticide/acaricide propargite; the fungicides o-phenylphenol and its sodium salt, triadimefon, triadimenol, and ziram; the herbicides ametryn, dicamba, diuron, oxyfluorfen, and paraquat; the growth regulator/herbicide dimethipin; and the antimicrobial/insecticidal fumigant propylene oxide. Also, EPA is modifying certain tolerances for the insecticide/nematicide oxamyl; the insecticide fenitrothion; the miticide/acaricide propargite; the molluscicide metaldehyde; the fungicides triadimefon and tridemorph; the herbicides ametryn, 2,4-DB, dicamba, and diuron; and the antimicrobial/insecticidal fumigant propylene oxide. In addition, EPA is establishing tolerances for the insecticide/nematicide oxamyl; the molluscicide metaldehyde; the fungicides etridiazole and streptomycin; the herbicides 2,4-DB, dicamba, and diuron; and the antimicrobial/insecticidal fumigant propylene oxide and propylene chlorohydrin (a reaction product formed during the propylene oxide sterilization process). Finally, because tolerances expired in 2005, EPA is removing 40 CFR 180.167 for nicotine-containing compounds. The regulatory actions finalized in this document are in follow-up to the Agency’s reregistration program under the Federal Insecticide, Fungicide, and Rodenticide Act (FIFRA), and tolerance reassessment program under the Federal Food, Drug, and Cosmetic Act (FFDCA), section 408(q).

DATES: This regulation is effective September 24, 2008. Objections and requests for hearings must be received on or before November 24, 2008, and must be filed in accordance with the instructions provided in 40 CFR part 178 (see also Unit I.C. of the SUPPLEMENTARY INFORMATION).

ADDRESSES: EPA has established a docket for this action under docket identification (ID) number EPA-HQ-OPP-2008-0232. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Joseph Nevola, Special Review and Reregistration Division (7508P), Office of Pesticide Programs, Environmental Protection Agency, 1200 Pennsylvania Ave., NW., Washington, DC 20460-0001; telephone number: (703) 308-8037; e-mail address: nevola.joseph@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing electronically available documents at http://www.regulations.gov, you may access this Federal Register document electronically through the EPA Internet under the “Federal Register” listings at http://www.epa.gov/fedrgstr. You may also access a frequently updated electronic version of 40 CFR part 180 through the Government Printing Office's pilot e-CFR site at http://www.gpoaccess.gov/ecfr.

C. Can I File an Objection or Hearing Request?

Under section 408(g) of FFDCA, 21 U.S.C. 436a, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2008-0232 in the subject line on the first page of your submission. All requests must be in writing, and must be mailed or delivered to the Hearing Clerk on or before [November 24, 2008

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2008-0232, by one of the following methods.

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

A. What Action is the Agency Taking?

In the Federal Register of June 4, 2008 (73 FR 31788) (FRL-8363-9), EPA issued a proposal to revoke, modify, and establish certain specific tolerances for residues of the insecticides/nematicides aldicarb, ethoprop, and oxamyl; the insecticides disulfoton, fenitrothion, malathion, and methyl parathion; the miticide/acaricide propargite; the molluscicide metaldehyde; the fungicides etridiazole, o-phenylphenol and its sodium salt, streptomycin, triadimefon, triadimenol, tridemorph, and ziram; the herbicides ametryn, 2,4-DB, dicamba, diuron, oxyfluorfen, and paraquat; the growth regulator/herbicide dimethipin; and the antimicrobial/insecticidal fumigant propylene oxide and its reaction product propylene chlorohydrin, and because tolerances expired in 2005, to remove 40 CFR 180.167 for nicotine-containing compounds. Also, the proposal of June 4, 2008 (73 FR 31788) provided a 60-day comment period which invited public comment for consideration and for support of tolerance retention under FFDCA standards.

In this final rule, EPA is revoking, modifying, and establishing specific tolerances for residues of aldicarb, ametryn, 2,4-DB, dicamba, dimethipin, disulfoton, diuron, ethoprop, etridiazole, fenitrothion, malathion, metaldehyde, methyl parathion, o-phenylphenol and its sodium salt, oxamyl, oxyfluorfen, paraquat, propargite, propylene oxide and propylene chlorohydrin, streptomycin, triadimefon, triadimenol, tridemorph, and ziram in or on commodities listed in the regulatory text of this document, and removing 40 CFR 180.167 for nicotine-containing compounds.

EPA is finalizing these tolerance actions in order to implement the tolerance recommendations made during the reregistration and tolerance reassessment processes (including follow-up on canceled or additional uses of pesticides). As part of these processes, EPA is required to determine whether each of the amended tolerances meets the safety standard of FFDCA. The safety finding determination of “reasonable certainty of no harm” is discussed in detail in each Reregistration Eligibility Decision (RED) and Report on FQPA Tolerance Reassessment Progress and Interim Risk Management Decision (TRED) for the active ingredient. REDs and TREDs recommend the implementation of certain tolerance actions, including modifications, to reflect current use patterns, to meet safety findings and change commodity names and groupings in accordance with new EPA policy. Printed copies of many REDs and TREDs may be obtained from EPA's National Service Center for Environmental Publications (EPA/NSCEP), P.O. Box 42419, Cincinnati, OH 45242-2419, telephone number: 1-800-490-9198; fax number: 1-513-489-8695; Internet at http://www.epa.gov/ncepihom and from the National Technical Information Service (NTIS), 5285 Port Royal Rd., Springfield, VA 22161, telephone number: 1-800-553-6847 or (703) 605-6000; Internet at http://www.ntis.gov. Electronic copies of REDs and TREDs are available on the Internet at http://www.regulations.gov and http://www.epa.gov/pesticides/reregistration/status.htm.

In this final rule, EPA is revoking certain tolerances and/or tolerance exemptions because either they are no longer needed or are associated with food uses that are no longer registered under FIFRA in the United States. Those instances where registrations were canceled were because the registrant failed to pay the required maintenance fee and/or the registrant voluntarily requested cancellation of one or more registered uses of the pesticide active ingredient. The tolerances revoked by this final rule are no longer necessary to cover residues of the relevant pesticides in or on domestically treated commodities or commodities treated outside but imported into the United States. It is EPA's general practice to issue a final rule revoking those tolerances and tolerance exemptions for residues of pesticide active ingredients on crop uses for which there are no active registrations under FIFRA, unless any person in comments on the proposal indicates a need for the tolerance or tolerance exemption to cover residues in or on imported commodities or legally treated domestic commodities.

EPA has historically been concerned that retention of tolerances that are not necessary to cover residues in or on legally treated foods may encourage misuse of pesticides within the United States.

Generally, EPA will proceed with the revocation of these tolerances on the grounds discussed in Unit II.A. if one of the following conditions applies:

1. Prior to EPA's issuance of a FFDCA section 408(f) order requesting additional data or issuance of a FFDCA section 408(d) or (e) order revoking the tolerances on other grounds, commenters retract the comment identifying a need for the tolerance to be retained.

2. EPA independently verifies that the tolerance is no longer needed.

3. The tolerance is not supported by data that demonstrate that the tolerance meets the requirements under FQPA.

This final rule does not revoke those tolerances for which EPA received comments stating a need for the tolerance to be retained. In response to the proposal published in the Federal Register of June 4, 2008 (73 FR 31788), EPA received two comments during the 60-day public comment period, as follows:

i. Triadimefon—Comment by Bayer CropScience. EPA received a comment dated June 25, 2008 from Bayer CropScience which stated that for one product, Bayleton 50% Wettable Powder Fungicide (EPA Reg. No. 264-737), there is still product in the channels of trade with directions for use of triadimefon on apples, grapes, pears, and raspberries. Also, Bayer CropScience asked that the tolerances related to these specific uses not be revoked, but be maintained to cover their uses.

Agency response. In a follow-up conversation with the Agency on July 21, 2008, the commenter clarified that Bayer’s knowledge of any Bayleton 50% Wettable Powder Fungicide product from persons other than the registrant in the channels of trade was as of June 2007, but not since that time. Upon the Agency’s request, Bayer CropScience agreed to check if it had any more recent information for that specific product. On July 25, 2008, Bayer CropScience confirmed to the Agency that there was existing Bayleton 50% Wettable Powder Fungicide product (EPA Reg. No. 264-737) from persons other than the registrant who expressed to Bayer that it would take about 18 months for existing stocks of that product to clear the channels of trade.

Consequently, due to Bayer’s comment and updated information, EPA is changing the revocation date of the tolerances in 40 CFR 180.410(a) on apple; apple, wet pomace; grape; and pear; and the regional tolerance in 40 CFR 180.410(c) on raspberry, each with an expiration/revocation date of July 25, 2010, which the Agency believes allows sufficient time for existing stocks of Bayleton 50% Wettable Powder Fungicide (EPA Reg. No. 264-737) to be sold, distributed, and exhausted by end-users, and for treated commodities to have cleared the channels of trade.

Also, because EPA is not revoking the tolerance in 40 CFR 180.410(c) on raspberry on the date of publication of the final rule, so that the tolerance will remain in effect an extra approximately two years, and because the Agency determined that residues of concern for all raw agricultural commodities are triadimefon and triadimenol, the Agency is revising the introductory text of 40 CFR 180.410(c) as follows: Tolerances with regional registrations, as defined in §180.1(m), are established for the combined residues of the fungicide triadimefon, 1-(4-chlorophenoxy)-3,3-dimethyl-1-(1H-1,2,4-triazol-1-yl)-2-butanone and triadimenol, β-(4-chlorophenoxy)-α-(1,1-dimethylethyl)-1H-1,2,4-triazole-1-ethanol, expressed as triadimefon, in or on the following food commodities.

Triadimefon is not registered for use as a direct livestock treatment and with the publication of a product cancellation order in the Federal Register of June 25, 2008 (73 FR 36080)(FRL-8368-7) for Bayleton 50 Turf and Ornamental Fungicide in WSP and Bayleton 50 WP Fungicide (EPA Reg. No. 432-1294), there are now no active registered feed item uses of triadimefon. Although wet apple pomace is a feed item for cattle, goats, horses, and sheep, and given the Agency’s response to Bayer’s comments that EPA is revoking the tolerances in 40 CFR 180.410(a) on apple and apple, wet pomace with expiration/revocation dates of July 25, 2010, the Agency reiterates its determination, as stated in the Federal Register of June 4, 2008 (73 FR 31788), that based on available ruminant exaggerated feeding data at 125x Maximum Theoretical Dietary Burden for cattle, there is no reasonable expectation of finite triadimefon residues of concern in milk and tissues of cattle, goats, horses, and sheep, and that their tolerances are no longer needed under 40 CFR 180.6(a)(3). Therefore, with the exception of the change that EPA is making with regard to the revocation date for tolerances on apple; apple, wet pomace; grape; pear; and raspberry for combined triadimefon residues of concern in 40 CFR 180.410, EPA is finalizing the amendments proposed concerning triadimefon in the Federal Register of June 4, 2008 (73 FR 31788). For a detailed discussion of the Agency’s rationale for the establishments, revocations, and modifications to the tolerances for combined triadimefon residues of concern in 40 CFR 180.410, refer to the proposed rule of June 4, 2008.

ii. Oxamyl—Comment by DuPont Crop Protection. EPA received a comment from DuPont Crop Protection which requested that the Agency not decrease the individual tolerances in 40 CFR 180.303 for the combined oxamyl residues of concern on winter squash and pumpkin from 2.0 to 0.2 ppm. In addition, the commenter stated that because there was some interest in the use of oxamyl on some minor crops contained in the cucurbit vegetable crop group and individual tolerances currently exist in 40 CFR 180.303 on winter squash, pumpkin, cucumber, summer squash, cantaloupe, honeydew melon, and watermelon, each at 2.0 ppm, a crop group tolerance could be established for vegetable, cucurbit, group 9 at 2.0 ppm. The commenter stated that the minor crops would be insignificant dietary contributors and that the existing individual tolerances should be converted to a crop group tolerance.

Agency response. EPA will not take action on the tolerances for winter squash and pumpkin in 40 CFR 180.303 at this time based on the comment. The Agency will respond to the DuPont comment in a future notice to be published in the Federal Register. However, the Agency is finalizing the other amendments for oxamyl in the Federal Register of June 4, 2008 (73 FR 31788). For a detailed discussion of the Agency’s rationale for the establishments, revocations, and modifications to the tolerances for combined oxamyl residues of concern in 40 CFR 180.303, refer to the proposed rule of June 4, 2008.

The Agency did not receive any specific comments, during the 60-day comment period, on the following pesticide active ingredients:

Aldicarb, ametryn, 2,4-DB, dicamba, dimethipin, disulfoton, diuron, ethoprop, etridiazole, fenitrothion, malathion, metaldehyde, methyl parathion, o-phenylphenol and its sodium salt, oxyfluorfen, paraquat, propargite, propylene oxide and propylene chlorohydrin, streptomycin, triadimenol, tridemorph, ziram, and nicotine-containing compounds. The codification section in the proposed rule regarding 40 CFR 180.106 inadvertently mentioned that the Agency was revising paragraph (b). This was a clerical error; EPA did not intend to revise paragraph (b). Therefore, EPA is finalizing the amendments proposed concerning these active ingredients in the Federal Register of June 4, 2008 (73 FR 31788). For a detailed discussion of the Agency’s rationale for the establishments, revocations, and modifications to the tolerances, refer to the proposed rule of June 4, 2008.

B. What is the Agency's Authority for Taking this Action?

EPA may issue a regulation establishing, modifying, or revoking a tolerance under FFDCA section 408(e). In this final rule, EPA is establishing, modifying, and revoking tolerances to implement the tolerance recommendations made during the reregistration and tolerance reassessment processes, and as follow-up on canceled uses of pesticides. As part of these processes, EPA is required to determine whether each of the amended tolerances meets the safety standards under FFDCA. The safety finding determination is found in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for aldicarb, ametryn, 2,4-DB, dicamba, dimethipin, disulfoton, diuron, ethoprop, etridiazole, fenitrothion, malathion, metaldehyde, methyl, parathion, o-phenylphenol and its sodium salt, oxamyl, oxyfluorfen, paraquat, propargite, propylene oxide, triadimefon, and ziram, and TREDs for diuron, streptomycin, triadimenol, and tridemorph. REDs and TREDs contain the Agency's evaluation of the database for these pesticides, including statements regarding additional data on the active ingredients that may be needed to confirm the potential human health and environmental risk assessments associated with current product uses, and REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are made final in this document do not need such assessment when the tolerances are no longer necessary.

EPA's general practice is to revoke tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

When EPA establishes tolerances for pesticide residues in or on raw agricultural commodities, the Agency gives consideration to possible pesticide residues in meat, milk, poultry, and/or eggs produced by animals that are fed agricultural products (for example, grain or hay) containing pesticides residues (40 CFR 180.6). If there is no reasonable expectation of finite pesticide residues in or on meat, milk, poultry, or eggs, then tolerances do not need to be established for these commodities (40 CFR 180.6(b) and 180.6 (c)).

C. When Do These Actions Become Effective?

With the exception of specific tolerance revocations for dimethipin, methyl parathion, and triadimefon for which EPA is revoking with specific expiration/revocation dates, the Agency is revoking, modifying, and establishing specific tolerances, and revising specific commodity terminologies effective on the date of publication of this final rule in the Federal Register. With the exception of the specific tolerances for dimethipin, methyl parathion, and triadimefon, the Agency believes that existing stocks of pesticide products labeled for the uses associated with the revoked tolerances have been completely exhausted and that treated commodities have had sufficient time for passage through the channels of trade. EPA is revoking certain specific tolerances with expiration/revocation dates of May 31, 2010 for dimethipin (meat and meat byproducts of cattle, goat, hog, horse, and sheep, and cotton, undelinted seed), January 24, 2009 for methyl parathion (bean, dry, seed; beet, sugar, roots; beet, sugar, tops; cabbage; hop, dried cones; pea, dry, seed; and pecan), and July 25, 2010 for triadimefon (apple; apple, wet pomace; grape; pear; and raspberry), respectively. The Agency believes that these revocation dates allow users to exhaust stocks and allows sufficient time for passage of treated commodities through the channels of trade.

Any commodities listed in the regulatory text of this document that are treated with the pesticides subject to this final rule, and that are in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA.

2. The residue does not exceed the level that was authorized at the time of the application or use to be present on the food under a tolerance or exemption from tolerance. Evidence to show that food was lawfully treated may include records that verify the dates that the pesticide was applied to such food.

III. Are There Any International Trade Issues Raised by this Final Action?

In making its tolerance decisions, EPA seeks to harmonize U.S. tolerances with international standards whenever possible, consistent with U.S. food safety standards and agricultural practices. EPA considers the international Maximum Residue Limits (MRLs) established by the Codex Alimentarius Commission, as required by section 408(b)(4) of FFDCA. The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level in a notice published for public comment. EPA's effort to harmonize with Codex MRLs is summarized in the tolerance reassessment section of individual REDs and TREDs, and in the Residue Chemistry document which supports the RED and TRED, as mentioned in the proposed rule cited in Unit II.A. Specific tolerance actions in this rule and how they compare to Codex MRLs (if any) is discussed in Unit II.A.

IV. Statutory and Executive Order Reviews

In this final rule, EPA establishes tolerances under FFDCA section 408(e), and also modifies and revokes specific tolerances established under FFDCA section 408. The Office of Management and Budget (OMB) has exempted these types of actions (i.e., establishment and modification of a tolerance and tolerance revocation for which extraordinary circumstances do not exist) from review under Executive Order 12866, entitled Regulatory Planning and Review (58 FR 51735, October 4, 1993). Because this rule has been exempted from review under Executive Order 12866 due to its lack of significance, this rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-13, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this rule, the Agency hereby certifies that this final rule will not have a significant economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of the proposed rule, as mentioned in Unit II.A.). Furthermore, for the pesticides named in this final rule, the Agency knows of no extraordinary circumstances that exist as to the present revocations that would change EPA's previous analysis. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers, and food retailers, not States. This action does not alter the relationships or distribution of power and responsibilities established by Congress in the preemption provisions of section 408(n)(4) of FFDCA. For these same reasons, the Agency has determined that this rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: September 15, 2008.
Debra Edwards,
Director, Office of Pesticide Programs.

Therefore, 40 CFR chapter I is amended as follows:

PART 180—[AMENDED]

1. The authority citation for part 180 continues to read as follows:

Authority: 21 U.S.C. 321(q), 346a and 371.

§ 180.3 [Amended]

2. Section 180.3 is amended by removing paragraph (d)(13) and redesignating paragraph (d)(14) as (d)(13).

3. Section 180.106 is amended by revising paragraph (a) and the table in paragraph (c), to read as follows:

§ 180.106 Diuron; tolerances for residues.

(a) General. Tolerances are established for the combined residues of the herbicide diuron, 3-(3,4-dichlorophenyl)-1,1-dimethylurea and its metabolites convertible to 3,4-dichloroaniline in or on food commodities, as follows:

Commodity | Parts per million
Alfalfa, forage | 3.0
Alfalfa, hay | 2.0
Apple | 0.1
Artichoke, globe | 1
Asparagus | 7
Banana | 0.1
Berry group 13 | 0.1
Cattle, fat | 1
Cattle, meat | 1
Cattle, meat byproducts | 1
Citrus, oil | 3.0
Corn, field, grain | 0.1
Corn, pop, grain | 0.1
Cotton, undelinted seed | 0.2
Fish - freshwater finfish, farm raised | 2.0
Fruit, citrus, group 10, except lemon | 0.05
Goat, fat | 1
Goat, meat | 1
Goat, meat byproducts | 1
Grain, aspirated fractions | 5.0
Grape | 0.05
Grass, forage, except bermudagrass | 2
Grass, hay, except bermudagrass | 2
Hazelnut | 0.1
Hog, fat | 1
Hog, meat | 1
Hog, meat byproducts | 1
Horse, fat | 1
Horse, meat | 1
Horse, meat byproducts | 1
Lemon | 0.5
Nut, macadamia | 0.05
Olive | 1
Papaya | 0.5
Peach | 0.1
Pear | 1
Pea, field, seed | 0.1
Pea, field, vines | 2
Pea, field, hay | 2
Pecan | 0.05
Peppermint, tops | 1.5
Pineapple | 0.1
Pineapple, process residue | 0.4
Sheep, fat | 1
Sheep, meat | 1
Sheep, meat byproducts | 1
Sorghum, grain, forage | 2
Sorghum, grain, grain | 0.5
Sorghum, grain, stover | 2
Spearmint, tops | 1.5
Sugarcane, cane | 0.2
Sugarcane, molasses | 0.7
Walnut | 0.05
Wheat, bran | 0.7
Wheat, forage | 2
Wheat, grain | 0.5
Wheat, hay | 2
Wheat, straw | 1.5

(c) * * *

Commodity | Parts per million
Barley, bran | 0.7
Barley, grain | 0.2
Barley, hay | 2
Barley, straw | 1.5
Cactus | 0.05
Clover, forage | 0.1
Clover, hay | 1.0
Oat, forage | 2
Oat, grain | 0.1
Oat, hay | 2
Oat, straw | 1.5
Trefoil, forage | 0.1
Trefoil, hay | 1.5
Vetch, forage | 0.1
Vetch, hay | 1.5

§180.111 [Amended]

4. Section 180.111 is amended by removing the entries for flax, straw; lespedeza, seed; lespedeza, straw; vetch, seed; and vetch, straw from the table in paragraph (a)(1).

5. Section 180.116 is amended by revising the table in paragraph (a) and footnote 1, to read as follows:

§180.116 Ziram; tolerances for residues.

(a) * * *

Commodity | Parts per million
Almond | 0.1¹
Apple | 7.0¹
Apricot | 7.0¹
Blackberry | 7.0¹
Blueberry | 7.0¹
Cherry, sweet | 7.0¹
Cherry, tart | 7.0¹
Grape | 7.0
Huckleberry | 7.0
Peach | 7.0
Pear | 7.0¹
Pecan | 0.1
Quince | 7.0¹
Strawberry | 7.0
Tomato | 7.0¹
¹ Some of these tolerances were established on the basis of data acquired at the public hearings held in 1950 (formerly §180.101) and the remainder were established on the basis of pesticide petitions presented under the procedure specified in the amendment to the Federal Food, Drug, and Cosmetic Act by Public Law 518, 83d Congress (68 Stat. 511).

6. Section 180.121 is amended by revising the table in paragraph (a) to read as follows:

§180.121 Methyl parathion; tolerances for residues.

(a) * * *

Commodity | Parts per million | Expiration/Revocation Date
Alfalfa, forage | 1.25 | None
Alfalfa, hay | 5.0 | None
Almond | 0.1 | None
Almond, hulls | 3.0 | None
Barley | 1.0 | None
Bean, dry, seed | 1.0 | 1/24/09
Beet, sugar, roots | 0.1 | 1/24/09
Beet, sugar, tops | 0.1 | 1/24/09
Cabbage | 1.0 | 1/24/09
Corn | 1.0 | None
Corn, field, forage | 1.0 | None
Corn, sweet, forage | 1.0 | None
Cotton, undelinted seed | 0.75 | None
Grass, forage | 1.0 | None
Hop, dried cones | 1.0 | 1/24/09
Oat | 1.0 | None
Onion | 1.0 | None
Peanut | 1.0 | None
Pea, dry, seed | 1.0 | 1/24/09
Pea, field, vines | 1.0 | None
Pecan | 0.1 | 1/24/09
Potato | 0.1 | None
Rapeseed, seed | 0.2 | None
Rice, grain | 1.0 | None
Soybean, seed | 0.1 | None
Soybean, hay | 1.0 | None
Sunflower, seed | 0.2 | None
Sweet potato, roots | 0.1 | None
Walnut | 0.1 | None
Wheat | 1.0 | None

7. Section 180.129 is revised to read as follows:

§180.129 o-Phenylphenol and its sodium salt; tolerances for residues.

(a) General. Tolerances are established for combined residues of the fungicide o-phenylphenol and sodium o-phenylphenate, each expressed as o-phenylphenol, from postharvest application of either in or on the following food commodities:

Commodity | Parts per million
Apple | 25
Cantaloupe (NMT 10 ppm in edible portion) | 125
Carrot, roots | 20
Cherry | 5
Citrus fruits | 10
Cucumber | 10
Lemon | 10
Nectarine | 5
Orange | 10
Pepper, bell | 10
Peach | 20
Pear | 25.0
Pineapple | 10
Plum, prune, fresh | 20
Sweet potato, roots | 15
Tomato | 10

(b) Section 18 emergency exemptions. [Reserved]

(c) Tolerances with regional registrations. [Reserved]

(d) Indirect or inadvertent residues. [Reserved]

§ 180.167 [Removed]

8. Section 180.167 is removed.

9. Section 180.183 is amended by revising the table in paragraph (a) to read as follows:

§180.183 O,O-Diethyl S-[2-(ethylthio)ethyl] phosphorodithioate; tolerances for residues.

(a) * * *

Commodity | Parts per million
Barley, grain | 0.75
Barley, straw | 5.0
Bean, lima | 0.75
Bean, snap, succulent | 0.75
Broccoli | 0.75
Brussels sprouts | 0.75
Cabbage | 0.75
Cauliflower | 0.75
Coffee, bean | 0.3
Cotton, undelinted seed | 0.75
Lettuce | 0.75
Peanut | 0.75
Pea, dry, seed | 0.75
Pea, field, vines | 5.0
Pea, succulent | 0.75
Pepper | 0.1
Potato | 0.75
Spinach | 0.75
Tomato | 0.75
Wheat, hay | 5.0
Wheat, grain | 0.3
Wheat, straw | 5.0

§180.205 [Amended]

10. Section 180.205 is amended by removing the entries for bean, dry, seed; bean, lima, succulent; bean, snap, succulent; cucurbits; nut; pea, dry, seed; and pea, succulent from the table in paragraph (a).

11. Section 180.227 is amended by revising the tables in paragraphs (a)(1), (a)(2), and (a)(3) to read as follows:

§180.227 Dicamba; tolerances for residues.

(a) * * *

(1) * * *

Commodity | Parts per million
Barley, grain | 6.0
Barley, hay | 2.0
Barley, straw | 15.0
Corn, field, forage | 3.0
Corn, field, grain | 0.1
Corn, field, stover | 3.0
Corn, pop, grain | 0.1
Corn, pop, stover | 3.0
Corn, sweet, forage | 0.50
Corn, sweet, kernel plus cob with husks removed | 0.04
Corn, sweet, stover | 0.50
Cotton, undelinted seed | 0.2
Grass, forage, fodder and hay, group 17, forage | 125.0
Grass, forage, fodder and hay, group 17, hay | 200.0
Millet, proso, forage | 90.0
Millet, proso, grain | 2.0
Millet, proso, hay | 40.0
Millet, proso, straw | 30.0
Oat, forage | 90.0
Oat, grain | 2.0
Oat, hay | 40.0
Oat, straw | 30.0
Rye, forage | 90.0
Rye, grain | 2.0
Rye, straw | 30.0
Sorghum, grain, forage | 3.0
Sorghum, grain, grain | 4.0
Sorghum, grain, stover | 10.0
Sugarcane, cane | 0.1
Sugarcane, molasses | 2.0
Wheat, forage | 90.0
Wheat, grain | 2.0
Wheat, hay | 40.0
Wheat, straw | 30.0

(2) * * *

Commodity | Parts per million
Asparagus | 4.0
Cattle, fat | 0.3
Cattle, kidney | 25.0
Cattle, meat | 0.25
Cattle, meat byproducts, except kidney | 3.0
Goat, fat | 0.3
Goat, kidney | 25.0
Goat, meat | 0.25
Goat, meat byproducts, except kidney | 3.0
Hog, fat | 0.3
Hog, kidney | 25.0
Hog, meat | 0.25
Hog, meat byproducts, except kidney | 3.0
Horse, fat | 0.3
Horse, kidney | 25.0
Horse, meat | 0.25
Horse, meat byproducts, except kidney | 3.0
Milk | 0.2
Sheep, fat | 0.3
Sheep, kidney | 25.0
Sheep, meat | 0.25
Sheep, meat byproducts, except kidney | 3.0

(3) * * *

Commodity | Parts per million
Grain, aspirated fractions | 1000
Soybean, hulls | 30.0
Soybean, seed | 10.0

12. Section 180.245 is amended by revising paragraph (a)(1) to read as follows:

§180.245 Streptomycin; tolerances for residues.

(a)(1) Tolerances are established for residues of the fungicide streptomycin in or on food commodities as follows:

Commodity | Parts per million
Bean, dry, seed | 0.5
Bean, succulent | 0.5
Fruit, pome, group 11 | 0.25

13. Section 180.258 is amended by revising the table in paragraph (a), and by removing the text from paragraph (c) and reserving the paragraph designation and heading to read as follows:

§180.258 Ametryn; tolerances for residues.

(a) * * *

Commodity | Parts per million
Banana | 0.25
Corn, field, forage | 0.1
Corn, field, grain | 0.05
Corn, field, stover | 0.05
Corn, pop, grain | 0.05
Corn, pop, stover | 0.05
Corn, sweet, forage | 0.5
Corn, sweet, kernel plus cob with husks removed | 0.25
Corn, sweet, stover | 0.5
Pineapple | 0.05
Sugarcane, cane | 0.05

(c) Tolerances with regional registrations. [Reserved]

14. Section 180.259 is amended by revising the table in paragraph (a) to read as follows:

§180.259 Propargite; tolerances for residues.

(a) * * *

Commodity | Parts per million
Almond | 0.1
Almond, hulls | 55.0
Bean, dry, seed | 0.2
Cattle, fat | 0.1
Cattle, meat | 0.1
Cattle, meat byproducts | 0.1
Citrus, oil | 30.0
Corn, field, forage | 10.0
Corn, field, grain | 0.1
Corn, field, stover | 10.0
Corn, pop, grain | 0.1
Corn, pop, stover | 10.0
Corn, sweet, forage | 10.0
Corn, sweet, stover | 10.0
Cotton, undelinted seed | 0.1
Egg | 0.1
Goat, fat | 0.1
Goat, meat | 0.1
Goat, meat byproducts | 0.1
Grain, aspirated fractions | 0.4
Grape | 10.0
Grapefruit | 5.0
Hog, fat | 0.1
Hog, meat | 0.1
Hog, meat byproducts | 0.1
Hop, dried cones | 100.0
Horse, fat | 0.1
Horse, meat | 0.1
Horse, meat byproducts | 0.1
Lemon | 5.0
Milk, fat (0.08 ppm in milk) | 2.0
Nectarine | 4.0
Orange | 10.0
Peanut | 0.1
Peppermint, tops | 50.0
Poultry, fat | 0.1
Potato | 0.1
Sheep, fat | 0.1
Sheep, meat | 0.1
Sheep, meat byproducts | 0.1
Sorghum, grain, forage | 10.0
Sorghum, grain, grain | 5.0
Sorghum, grain, stover | 10.0
Spearmint, tops | 50.0
Tea, dried | 10.0
Walnut | 0.1

§180.262 [Amended]

15. Section 180.262 is amended by removing the entries for peanut and peanut, hay from the table in paragraph (a).

§180.269 [Amended]

16. Section 180.269 is amended by removing the entries for sugarcane, forage and sugarcane, stover from the table in paragraph (a).

17. Section 180.303 is revised to read as follows:

§180.303 Oxamyl; tolerances for residues.

(a) General. Tolerances are established for the combined residues of the insecticide oxamyl, methyl N,N-dimethyl-N-[(methylcarbamoyl)-oxy]-1-thiooxamimidate, and its oxime metabolite methyl N,N-dimethyl-N-hydroxy-1-thiooxamimidate calculated as oxamyl in or on the following food commodities:

Commodity | Parts per million
Apple | 2
Banana | 0.3
Cantaloupe | 2.0
Carrot | 0.1
Celery | 10.0
Cotton, undelinted seed | 0.2
Cucumber | 2.0
Eggplant | 2.0
Fruit, citrus, group 10 | 3
Garlic, bulb | 0.2
Melon, honeydew | 2.0
Onion, bulb | 0.2
Peanut | 0.05
Peanut, hay | 2.0
Pear | 2.0
Peppermint, tops | 10.0
Pepper, bell | 2.0
Pepper, nonbell | 5.0
Pineapple | 1
Pineapple, process residue | 2.0
Pumpkin | 2.0
Soybean, seed | 0.1
Spearmint, tops | 10.0
Squash, summer | 2.0
Squash, winter | 2.0
Tomato | 2
Vegetable, tuberous and corm, subgroup 1C | 0.1
Watermelon | 2.0

(b) Section 18 emergency exemptions. [Reserved]

(c) Tolerances with regional registrations. [Reserved]

(d) Indirect or inadvertent residues. [Reserved]

18. Section 180.331 is revised to read as follows:

§180.331 4-(2,4-Dichlorophenoxy) butyric acid; tolerances for residues.

(a) General. Tolerances are established for residues of the herbicide 4-(2,4-dichlorophenoxy) butyric acid (2,4-DB), both free and conjugated, determined as the acid, in or on food commodities, as follows:

Commodity | Parts per million
Alfalfa, forage | 0.7
Alfalfa, hay | 2.0
Cattle, meat byproducts | 0.05
Clover | 0.2
Goat, meat byproducts | 0.05
Hog, meat byproducts | 0.05
Horse, meat byproducts | 0.05
Peanut | 0.2
Peppermint, tops | 0.2
Sheep, meat byproducts | 0.05
Soybean, forage | 0.7
Soybean, hay | 2.0
Soybean, seed | 0.5
Spearmint, tops | 0.2
Trefoil, forage | 0.7
Trefoil, hay | 2.0

(b) Section 18 emergency exemptions. [Reserved]

(c) Tolerances with regional registrations. [Reserved]

(d) Indirect or inadvertent residues. [Reserved]

19. Section 180.370 is amended by alphabetically adding an entry for the commodity peanut, hay to the table in paragraph (a), to read as follows:

§180.370 5-Ethoxy-3-(trichloromethyl)-1,2,4-thiadiazole; tolerances for residues.

(a) * * *

Commodity | Parts per million
* * * * *
Peanut, hay | 0.1
* * * * *

20. Section 180.372 is revised to read as follows:

§180.372 2,6-Dimethyl-4-tridecylmorpholine; tolerances for residues.

(a) General. A tolerance is established for residues of the fungicide 2,6-dimethyl-4-tridecylmorpholine in or on the following food commodity:

Commodity | Parts per million
Banana¹ | 1.0
¹ There are no U.S. registrations.

(b) Section 18 emergency exemptions. [Reserved]

(c) Tolerances with regional registrations. [Reserved]

(d) Indirect or inadvertent residues. [Reserved]

§180.381 [Amended]

21. Section 180.381 is amended by removing the entry for corn, pop, grain from the table in paragraph (a).

22. Section 180.406 is amended by revising the table in paragraph (a) to read as follows:

§180.406 Dimethipin; tolerances for residues.

(a) * * *

Commodity | Parts per million | Expiration/Revocation Date
Cattle, meat | 0.01 | 5/31/10
Cattle, meat byproducts | 0.01 | 5/31/10
Cotton, undelinted seed | 0.50 | 5/31/10
Goat, meat | 0.01 | 5/31/10
Goat, meat byproducts | 0.01 | 5/31/10
Hog, meat | 0.01 | 5/31/10
Hog, meat byproducts | 0.01 | 5/31/10
Horse, meat | 0.01 | 5/31/10
Horse, meat byproducts | 0.01 | 5/31/10
Sheep, meat | 0.01 | 5/31/10
Sheep, meat byproducts | 0.01 | 5/31/10

23. Section 180.410 is revised to read as follows:

§180.410 Triadimefon; tolerances for residues.

(a) General. Tolerances are established for the combined residues of the fungicide triadimefon, 1-(4-chlorophenoxy)-3,3-dimethyl-1-(1H-1,2,4-triazol-1-yl)-2-butanone, and triadimenol, β-(4-chlorophenoxy)-α-(1,1-dimethylethyl)-1H-1,2,4-triazole-1-ethanol, expressed as triadimefon, in or on the following food commodities:

Commodity | Parts per million | Expiration/Revocation Date
Apple | 1.0 | 7/25/10
Apple, wet pomace | 4.0 | 7/25/10
Grape | 1.0 | 7/25/10
Pear | 1.0 | 7/25/10
Pineapple | 2.0 | None

(b) Section 18 emergency exemptions. [Reserved]

(c) Tolerances with regional registrations. Tolerances with regional registrations, as defined in § 180.1(m), are established for the combined residues of the fungicide triadimefon, 1-(4-chlorophenoxy)-3,3-dimethyl-1-(1H-1,2,4-triazol-1-yl)-2-butanone, and triadimenol, β-(4-chlorophenoxy)-α-(1,1-dimethylethyl)-1H-1,2,4-triazole-1-ethanol, expressed as triadimefon, in or on the following food commodities:

Commodity | Parts per million | Expiration/Revocation Date
Raspberry | 2.0 | 7/25/10

(d) Indirect or inadvertent residues. [Reserved]

24. Section 180.450 is revised to read as follows:

§180.450 Beta-(4-Chlorophenoxy)-alpha-(1,1-dimethylethyl)-1H-1,2,4-triazole-1-ethanol; tolerances for residues.

(a) General. Tolerances are established for the combined residues of the fungicide β-(4-chlorophenoxy)-α-(1,1-dimethylethyl)-1H-1,2,4-triazole-1-ethanol (triadimenol) and its butanediol metabolite, 4-(4-chlorophenoxy)-2,2-dimethyl-4-(1H-1,2,4-triazol-l-yl)-1,3-butanediol, calculated as triadimenol, in or on the following commodities:

Commodity | Parts per million
Banana ¹ | 0.2
Barley, grain | 0.05
Barley, straw | 0.2
Corn, field, forage | 0.05
Corn, field, grain | 0.05
Corn, field, stover | 0.05
Corn, pop, grain | 0.05
Corn, pop, stover | 0.05
Corn, sweet, forage | 0.05
Corn, sweet, kernel plus cob with husks removed | 0.05
Corn, sweet, stover | 0.05
Cotton, undelinted seed | 0.02
Oat, forage | 2.5
Oat, grain | 0.05
Oat, straw | 0.2
Rye, forage | 2.5
Rye, grain | 0.05
Rye, straw | 0.1
Sorghum, forage, hay | 0.05
Sorghum, grain, grain | 0.01
Sorghum, grain, stover | 0.01
Wheat, forage | 2.5
Wheat, grain | 0.05
Wheat, straw | 0.2
¹ There are no U.S. registrations for banana (whole) as of September 22, 1993.

(b) Section 18 emergency exemptions. [Reserved]

(c) Tolerances with regional registrations. [Reserved]

(d) Indirect or inadvertent residues. [Reserved]

25. Section 180.491 is amended by revising the tables in paragraphs (a)(1) and (a)(2) to read as follows:

§180.491 Propylene oxide; tolerances for residues.

(a) * * *

(1) * * *

Commodity | Parts per million
Cacao bean, dried bean | 200
Cacao bean, cocoa powder | 200
Fig | 3.0
Garlic, dried | 300
Grape, raisin | 1.0
Herbs and spices, group 19, dried | 300
Nut, tree, group 14 | 300
Onion, dried | 300
Plum, prune, dried | 2.0

(2) * * *

Commodity | Parts per million
Basil, dried leaves | 6000
Cacao bean, dried bean | 20.0
Cacao bean, cocoa powder | 20.0
Fig | 3.0
Garlic, dried | 6000
Grape, raisin | 4.0
Herbs and spices, group 19, dried, except basil | 1500
Nut, tree, group 14 | 10.0
Onion, dried | 6000
Plum, prune, dried | 2.0

26. Section 180.523 is revised to read as follows:

§180.523 Metaldehyde; tolerances for residues.

(a) General. Tolerances are established for residues of the molluscicide metaldehyde in or on food commodities, as follows:

Commodity | Parts per million
Artichoke, globe | 0.07
Berry group 13 | 0.15
Cactus | 0.07
Fruit, citrus, group 10 | 0.26
Lettuce | 1.73
Strawberry | 6.25
Tomato | 0.24
Vegetable, brassica, leafy, group 5 | 2.5
Watercress | 3.2

(b) Section 18 emergency exemptions. [Reserved]

(c) Tolerances with regional registrations. [Reserved]

(d) Indirect or inadvertent residues. [Reserved]

27. Section 180.540 is revised to read as follows:

§180.540 Fenitrothion; tolerances for residues.

(a) General. Tolerances are established for residues of the insecticide fenitrothion, O,O-dimethyl O-(4-nitro-m-tolyl) phosphorothioate, from the postharvest application of the insecticide to stored wheat in Australia, in or on the following food commodity:

Commodity | Parts per million
Wheat, gluten¹ | 3.0
¹ There are no U.S. registrations on food commodities since 1987.

(b) Section 18 emergency exemptions. [Reserved]

(c) Tolerances with regional registrations. [Reserved]

(d) Indirect or inadvertent residues. [Reserved]

[FR Doc. E8-22078 Filed 9-23-08; 8:45 am]

BILLING CODE 6560-50-S